DEPARTMENT OF HOMELAND SECURITY

Coast Guard

33 CFR Part 117

[Docket No. USCG-2013-0469]

Drawbridge Operation Regulation; Isle of Wight (Sinepuxent) Bay, Ocean City, MD

AGENCY: Coast Guard, DHS.

ACTION: Notice of deviation from regulation.

SUMMARY: The Commander Fifth Coast Guard District has issued a temporary deviation from the regulations governing the operation of the US 50 Bridge, over Isle of Wight (Sinepuxent) Bay, mile 0.5, at Ocean City, MD. The deviation is necessary to accommodate the 10th annual “Island 2 Island” Half Marathon. This deviation allows the drawbridge to remain in the closed position to vessels during the race.

DATES: This deviation is effective from 8 a.m. until 10:30 a.m. April 26, 2014.

ADDRESSES: The docket for this deviation [USCG-2013-0469] is available at http://www.regulations.gov. Type the docket number in the “Search” box and click “Search.” Click on the Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Kashanda Booker, Bridge Management Specialist, Fifth Coast Guard District, telephone 757-398-6227, email Kashanda.l.booker@uscg.mil. If you have questions on viewing the docket, call Barbara Hairston, Program Manager, Docket Operations, telephone 202-366-9826.

SUPPLEMENTARY INFORMATION: OC Tri Running Sports, on behalf of Maryland Transportation Authority, has requested a temporary deviation from the current operating regulations of the US 50 Bridge across Isle Wight (Sinepuxent) Bay mile 0.5, at Ocean City, MD.

The closure has been requested to ensure the safety of the increased volume of runners and spectators that will be participating in the 10th annual “Island 2 Island” Half Marathon on April 26, 2014. The event is expected to bring in over 4,000 runners and 6,000 spectators. The OC Tri Sports is extending the course to 13.1 miles to accommodate the request of the community. Under this temporary deviation, the Route 50 Bridge will remain in the closed position to vessels, from 8 a.m. through 10:30 a.m. Information provided by our Coast Guard Station Ocean City reveals that, in the past, vessel traffic for that time of year is very limited with most vessels being small enough to pass without a bridge lift. The US 50 Bridge, over Isle of Wight (Sinepuxent) Bay, mile 0.5, at Ocean City, MD has a vertical clearance in the closed position to vessels of 13 feet above mean high water. Vessels that can pass under the bridge without a bridge opening may do so at any time and are advised to proceed with caution. The Atlantic Ocean is the alternate route for vessels with mast heights greater than 13 feet transiting this section of Isle of Wight (Sinepuxent) Bay. At all other times during the effected period, the bridge will operate as outlined at 33 CFR 117.559.

The Coast Guard will inform waterway users through our Local and Broadcast Notices to Mariners of the closure periods for the bridge so that vessels can arrange their transits to minimize any impacts caused by the temporary deviation.

In accordance with 33 CFR 117.35(e), the drawbridge must return to its regular operating schedule immediately at the end of the designated time period. This deviation from the operating regulations is authorized under 33 CFR 117.35.

Dated: July 3, 2013.
Waverly W. Gregory, Jr.,
Bridge Program Manager, Fifth Coast Guard District.

[FR Doc. 2013-16811 Filed 7-12-13; 8:45 am]

BILLING CODE 9110-04-P